DEPARTMENT OF VETERANS AFFAIRS

[OMB Control No. 2900-0799]

Agency Information Collection Activity Under OMB Review: Casket and Urn Reimbursement

AGENCY: National Cemetery Administration, Department of Veterans Affairs.

ACTION: Notice.

SUMMARY: In compliance with the Paperwork Reduction Act (PRA) of 1995, this notice announces that the National Cemetery Administration (NCA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0799”.

SUPPLEMENTARY INFORMATION:

Authority: Public Law 104-13; 44 U.S.C. 3501-3521.

Title: Casket/Urn Reimbursement, VA Form 40-10088.

OMB Control Number: 2900-0799.

Type of Review: Reinstatement of a previously approved collection.

Abstract: The Department of Veterans Affairs, National Cemetery Administration has established VA regulations to implement statutory authority for NCA to provide reimbursement for the purchase of caskets and urns for the interment of the remains of Veterans without next of kin and sufficient resources available for burial.

An agency may not conduct or sponsor, and a person is not required to respond to a collection of information unless it displays a currently valid OMB control number. The Federal Register Notice with a 60-day comment period soliciting comments on this collection of information was published at Volume 85 FR 48 on Wednesday, March 11, 2020, page 41291.

Affected Public: Federal Government and Community Social Services.

Estimated Annual Burden: 74 hours.

Estimated Average Burden per Respondent: 10 minutes.

Frequency of Response: One time.

Estimated Number of Respondents: 445.

By direction of the Secretary.
Danny S. Green,
VA PRA Clearance Officer, Office of Quality, Performance and Risk, Department of Veterans Affairs.

[FR Doc. 2020-11939 Filed 6-2-20; 8:45 am]

BILLING CODE 8320-01-P